DEPARTMENT OF JUSTICE

Notice of Lodging of Consent Decree Under the Clean Water Act

Under 28 CFR § 50.7, notice is hereby given that on March 13, 2003, a proposed Consent Decree in United States v. Puerto Rico Aqueduct and Sewer Authority, et al., Civil Action No. 01-1709 (JAF), was lodged with the United States District Court for the District of Puerto Rico.

In this action the United States sought civil penalties and injunctive relief for the defendants' alleged discharges of untreated sewage from 471 pump stations throughout the Commonwealth of Puerto Rico and for the alleged failure to report certain discharges in violation of section 301(a) and 402 of the Clean Water Act, 33 U.S.C. 1311(a) and 1342. The proposed Consent Decree provides for the payment of a $1 million civil penalty by PRASA and Compañia de Agusa de Puerto Rico, its former operator by contact, as well as the performance of a Supplemental Environmental Project (“SEP”) by PRASA. The SEP is valued at $1 million and is designed to improve drinking water quality for certain communities which are not presently hooked up to PRASA water filtration systems. The proposed Consent Decree also requires PRASA and its current operator by contract, ONDEO de Puerto Rico, to develop and implement an EPA-approved system-wide operation and maintenance and spill response and cleanup plan for all pump stations owned by PRASA, as well as to perform specific remedial actions at designated pump stations.

The Department of Justice will receive for a period of thirty (30) days from the date of this publciaton comments relating to the Consent Decree. Comments should be addressed to the Assistant Attorney General, Environment and Natural Resources Division, PO Box 7611, U.S. Department of Justice, Washington, DC 20044-7611, and should refer to United States v. Puerto Rico Aqueduct and Sewer Authority, et al., Civil Action No. 01-1709 (JAF), D.J. Ref. 90-5-1-1-06475/1.

The Consent Decree may be examined at the Office of the United States Attorney for the District of Puerto Rico, Federal Office Building, Room101, Carlos E. Chardon Avenue, Hato Rey, Puerto Rico 00918, and at U.S EPA Region II, Caribbean Environmental Protection Division, 1492 Ponce de Leon Avenue, Suite 207, San Juan, Puerto Rico 00907. During the public comment period, the Consent Decree may also be examined on the following Department of Justice Web site, http://www.usdoj.gov/enrd/open.html. A copy of the Consent Decree may also be obtained by mail from the Consent Decree Library, PO Box 7611, U.S. department of Justice, Washington, DC 20044-7611 or by faxing or e-mailing a request to Tonia Fleetwood (tonia.fleetwood@usdoj.gov), fax no. (202) 514-0097, phone confirmation number (2020 514-1547. In requesting a copy from the Consent Decree Library, please enclose a check in the amount of $12.25 (for a copy without appendices) or $18.25 (for a copy with appendices) (25 cents per page reproduction cost), payable to the U.S. Treasury.

Catherine R. McCabe,
Deputy Chief, Environmental Enforcement Section, Environment and Natural Resources Division.

[FR Doc. 03-8643 Filed 4-8-03; 8:45 am]

BILLING CODE 4410-15-M